DEPARTMENT OF ENERGY

Federal Energy Regulatory Commission

[Projects Nos. 2060-005, 2084-020, 2320-005, and 2330-007; and 2869-007 New York]

Erie Boulevard Hydropower L.P.; Village of Potsdam; Notice of Availability of Final Multiple Project Environmental Assessment

April 18, 2001.

In accordance with the National Environmental Policy Act of 1969 and the Federal Energy Regulatory Commission's (Commission) regulations, 18 CFR Part 380 (Order No. 486, 52 F.R. 47897), the Office of Energy Projects staff has reviewed the applications for new license for the Carry Falls, Upper Raquette River, Middle Raquette River, and the Lower Raquette River Hydroelectric Projects, and the application for amendment of exemption for the Potsdam Water Power Project, located on the Raquette River in St. Lawrence County, New York, and has prepared a final multiple project Environmental Assessment (FEA) for the projects. In the FEA, the Commission's staff has analyzed the potential environmental impacts of the existing projects and has concluded that approval of the projects, with appropriate environmental protection measures, would not constitute a major federal action significantly affecting the quality of the human environment.

Copies of the FEA are available for review in the Public Reference Branch, Room 2-A, of the Commission's offices at 888 First Street, NE., Washington, DC 20426. The FEA may also be viewed on the web at http://www.ferc.fed.us/online/rims.htm (please call (202) 208-2222 for assistance).

David P. Boergers,
Secretary.

FR Doc. 01-10037 Filed 4-23-01; 8:45 am]

BILLING CODE 6717-01-M